NATIONAL AERONAUTICS AND SPACE ADMINISTRATION

[Notice 03-097]

Aerospace Safety Advisory Panel Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Thursday, September 18, 2003, 1 p.m. to 4 p.m. eastern daylight time.

ADDRESSES: Florida Space Authority, Auditorium, 100 Spaceport Way, Cape Canaveral, Florida 32920, (321) 730-5301.

FOR FURTHER INFORMATION CONTACT: Mr. Mark D. Erminger, Aerospace Safety Advisory Panel Executive Director, Code Q-1, National Aeronautics and Space Administration, Washington, DC 20546, (202) 358-0074.

SUPPLEMENTARY INFORMATION: The first 30 minutes of the meeting will be reserved for public comment on safety at Kennedy Space Center specifically or in NASA in general. Following public comment, the Aerospace Safety Advisory Panel will discuss potential content of the next annual report to the NASA Administrator. This discussion is pursuant to carrying out its statutory duties for which the Panel reviews, identifies, evaluates, and advises on those program activities, systems, procedures, and management activities that can contribute to program risk. Priority is given to those programs that involve the safety of human flight. The major subjects covered will be: Space Shuttle Program, International Space Station Program, Aviation Safety Program, and Cross-Program Areas. The Aerospace Safety Advisory Panel is chaired by Ms. Shirley C. McCarty and is composed of nine members and two consultants.

The meeting will be open to the public up to the seating capacity of the room (150). Photographs will only be permitted during the first 10 minutes of the meeting. Visitors will be requested to sign a visitor's register.

Members of the public that would like to make a 5 minute verbal presentation to the Panel should contact Ms. Susan Burch on (202) 358-0550 at least 24 hours in advance. Any member of the public is permitted to file a written statement with the Panel at the time of the meeting.

Verbal presentation and written comments should be limited to the subject of safety at Kennedy Space Center specifically or in NASA in general.

June W. Edwards,
Advisory Committee Management Officer, National Aeronautics and Space Administration.

[FR Doc. 03-22195 Filed 8-29-03; 8:45 am]

BILLING CODE 7510-01-P